NATIONAL TRANSPORTATION SAFETY BOARD

Public Forum—Trains and Trespassing: Ending Tragic Encounters

On Tuesday and Wednesday, March 24-25, 2015, the National Transportation Safety Board (NTSB) will convene a forum titled Trains and Trespassing: Ending Tragic Encounters. The forum will begin at 9:00 a.m. on March 24, and is open to all. Attendance is free and no registration is required. NTSB Board Member Robert L. Sumwalt will serve as the presiding officer of the forum. The forum is organized into five topic areas covering:

• Human Costs Associated With Trespassing

• Diversity of Trespasser Incidents

• Current Interventions and Strategies

• Understanding Challenges to Trespasser Prevention

• Approaches in Moving Forward With Preventing Trespassing

In addition, the forum will include a tour and presentation inside the Operation Lifesaver train at Union Station. Invited panelists will include representatives from the Federal Railroad Administration, Federal Transit Administration, railroad and rail transit owners and operators, researchers, emergency responders, and industry and advocacy groups.

Below is the preliminary agenda.

Tuesday, March 24, 2015: (9:00 a.m.-5:00 p.m.)

1. Opening Statement by Member Sumwalt

2. Presentations on: Human Costs Associated With Trespassing

3. Presentations on Diversity of Trespasser Incidents

4. Questions from the Technical Panel and Member Sumwalt

5. Presentations on Current Interventions and Strategies

6. Questions from the Technical Panel and Member Sumwalt

7. Presentations on Understanding Challenges to Trespasser Prevention

8. Questions from the Technical Panel and Member Sumwalt

9. Closing Statement by Member Sumwalt

Wednesday, March 25, 2015 (8:00 a.m.-1:00 p.m.)

1. Tour and Presentation of Operation Lifesaver train (Union Station)

2. Presentations on Moving Prevention Forward

3. Questions from the Technical Panel and Member Sumwalt

4. Closing Statement by Member Sumwalt

Unless otherwise noted, the forum will be held in the NTSB Board Room and Conference Center, located at 429 L'Enfant Plaza SW., Washington, DC. The public can view the forum in person or by live webcast at www.ntsb.gov. Webcast archives are generally available by the end of the next day following the hearing, and webcasts are archived for a period of 3 months from after the date of the event.

Individuals requiring reasonable accommodation and/or wheelchair access directions should contact Rochelle Hall at (202) 314-6305 or by email at Rochelle.Hall@ntsb.gov by WEDNESDAY, March 18, 2015.

NTSB Media Contact: Eric Weiss—eric.weiss@ntsb.gov.

NTSB Forum Manager: Rick Narvell—rick.narvell@ntsb.gov.

Candi R. Bing,
Executive Secretariat.

[FR Doc. 2015-05410 Filed 3-6-15; 8:45 am]

BILLING CODE 7533-01-P